DEPARTMENT OF DEFENSE

Office of the Secretary

[Docket ID DoD-2021-OS-0039]

Submission for OMB Review; Comment Request

AGENCY: Office of the Under Secretary of Defense for Personnel and Readiness, Department of Defense (DoD).

ACTION: 30-Day information collection notice.

SUMMARY: The Department of Defense has submitted to OMB for clearance the following proposal for collection of information under the provisions of the Paperwork Reduction Act.

DATES: Consideration will be given to all comments received by September 8, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Understanding Employer Experiences Under Continuing Reserve Component Operations; OMB Control Number 0704-ESGR.

Type of Request: Regular.

Number of Respondents: 3,284.

Responses per Respondent: 1.

Annual Responses: 3,284.

Average Burden per Response: 30 minutes.

Annual Burden Hours: 1,642 hours.

Needs and Uses: In accordance with 10 United States Code, Section 2358, the Under Secretary of Defense for Personnel and Readiness (USD(P&R)) is required to conduct research of interest to DoD. This research of interest to DoD requires the collection and dissemination of information from employers about their views on employing members of the National Guard and Reserve (G&R). The data RAND collects via the survey vendor will be used to provide descriptive information about the experiences and views of employers with respect to employing G&R members as civilians. Findings will inform leadership of the experiences and opinions of G&R personnel and used in a review of G&R policies and programs and could be used to change the strategic communications with and outreach to civilian employers.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 2, 2021.
Aaron T. Siegel,
Alternate OSD Federal Register Liaison Officer, Department of Defense.

[FR Doc. 2021-16879 Filed 8-6-21; 8:45 am]

BILLING CODE 5001-06-P